DEPARTMENT OF THE INTERIOR

Bureau of Indian Affairs

[DR.5B711.IA000813]

Indian Gaming

AGENCY: Bureau of Indian Affairs, Interior.

ACTION: Notice of Approved Tribal-State Class III Gaming Compact.

SUMMARY: This notice publishes the approval of an amendment to the Class III Tribal-State Gaming Compact (Amendment), between the Tunica-Biloxi Tribe of Louisiana (Tribe) and the State of Louisiana (State).

DATES: Effective Date: October 22, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701 et seq., the Secretary of the Interior shall publish in the Federal Register notice of approved Tribal-State compacts for the purpose of engaging in Class III gaming activities on Indian lands. On August 19, 2013 the Tribe and the State submitted an amendment for review and approval. The Amendment between the State and the Tribe facilitates refinancing of the Tribe's existing gaming-related debt. A presumption of suitability is granted for a Qualified Institutional Buyer as defined by Rule 144A of the Securities Act of 1933. Pursuant to 25 CFR 293.4, all compacts and amendments are subject to review and approval by the Secretary. Pursuant to 25 CFR 293.15, an approved compact or amendment takes effect on the date that notice of its approval is published in the Federal Register.

Dated: September 30, 2013.
Kevin K. Washburn,
Assistant Secretary—Indian Affairs.

[FR Doc. 2013-24348 Filed 10-21-13; 8:45 am]

BILLING CODE 4310-4N-P